DEPARTMENT OF ENERGY

[GDO Docket No. PP-501]

Application for Presidential Permit; Eastern Maine Electric Cooperative, Inc.

AGENCY: Grid Deployment Office, Department of Energy.

ACTION: Notice of application.

SUMMARY: Eastern Maine Electric Cooperative, Inc. (the Applicant or EMEC) has applied for a Presidential permit to acquire, operate, and maintain facilities for the distribution of electric energy at the international border between the United States and Canada.

DATES: Comments, protests, or motions to intervene must be submitted on or before September 29, 2023.

ADDRESSES: Comments, protests, motions to intervene, or request for more information should be addressed by electronic email to Electricity.Exports@hq.doe.gov.

FOR FURTHER INFORMATION CONTACT: Christina Gomer, (240) 474-2403, Electricity.Exports@hq.doe.gov.

SUPPLEMENTARY INFORMATION: The Department of Energy (DOE) issues permits for the construction, operation, maintenance, or connection of electric transmission facilities at the United States international border, pursuant to E.O. 10485, as amended by E.O. 12038. On April 10, 2023, the authority to issue such orders was delegated to the DOE's Grid Deployment Office (GDO) by Delegation Order No. S1-DEL-S3-2023 and Redelegation Order No. S3-DEL-GD1-2023.

On June 2, 2022, EMEC filed an application (Application or App.) with the DOE “to import a small amount of energy from New Brunswick, Canada to serve two small seasonal camps that are in EMEC's service territory near the Canadian border.” App. at 1. EMEC “is a nonprofit utility built by and belonging to the communities it serves in Aroostook County, Penobscot County, and Washington County, Maine, which are located on Maine's Eastern Border with Canada.” Id. at 2. The Applicant states “the two camps have been served by New Brunswick Power Corporation (NB Power)”, Id. at 1, via the existing Loon Bay Distribution Line. See Id. at Exhibit 1. NB Power “is a vertically-integrated Crown Corporation wholly owned by the Government of New Brunswick, Canada”, Id. at 2, and it “would like to cease retail service to the camps.” Id. at 4. The Applicant further represents that, “To facilitate EMEC's acquisition and operation of the distribution assets, NB Power has applied to the Canadian Energy Regulator for a border accommodation export permit.” Id. at 5. Additionally, EMEC has an agreement with NB Power “for the purchase of electric energy,” effective from November 1, 2020, through October 31, 2025. Id. at 3.

The facilities for which EMEC seeks a permit “consists of one single phase overhead circuit, which is a 7200-volt distribution line, 60Hz. The conductor size is either #6 or #4 wire. It is a single-phase line with a neutral.” Id. at 4. The total length of the line is approximately 940 feet. Id. The line serves two seasonal dwellings and the annual kilowatt hours transmitted are estimated at less than 10,000 kilowatt hours. Id. at 5.

DOE Evaluation: Before a Presidential permit may be issued or amended, DOE must determine that the proposed action is in the public interest. In making that determination, DOE considers the environmental impacts of the proposed project, determines the project's impact on reliability of the United States electric grid, and weighs any other factors that it may also deem relevant to the public interest. DOE must also obtain favorable recommendations of the Secretary of State and the Secretary of Defense before taking final action on a Presidential permit application.

Procedural Matters: Any person desiring to be heard in this proceeding should file a comment or protest to the Application at Electricity.Exports@hq.doe.gov. Protests should be filed in accordance with Rule 211 of Federal Energy Regulatory Commission's (FERC) Rules of Practice and Procedure (18 CFR 385.211). Any person desiring to become a party to this proceeding should file a motion to intervene at Electricity.Exports@hq.doe.gov in accordance with FERC Rule 214 (18 CFR 385.214).

Comments and other filings concerning EMEC's Application should be clearly marked with GDO Docket No. PP-501. Additional copies are to be provided directly to Scott Hallowell, PO Box 425, Calais, ME 04619, scotth@emec.com; and Michael Postar and Ellen Hill, Duncan, Weinberg, Genzer & Pembroke, P.C., 1667 K Street NW, Suite 700, Washington, DC 20006, mrp@dwgp.com and elh@dwgp.com.

Copies of this Application will be made available, upon request, on the program website at https://www.energy.gov/gdo/pending-applications-0 or by emailing Electricity.Exports@hq.doe.gov.

Signing Authority: This document of the Department of Energy was signed on August 24, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 25, 2023.
Treena V. Garrett,
Federal Register Liaison Officer, U.S. Department of Energy.

[FR Doc. 2023-18734 Filed 8-29-23; 8:45 am]

BILLING CODE 6450-01-P